DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on February 2, 2004, by a group of citrus producers in California.

FOR FURTHER INFORMATION CONTACT: Jean-Louis Pajot, Coordinator, Trade Adjustment Assistance for Farmers, FAS, USDA, (202) 720-2916, e-mail: trade.assistance@fas.usda.gov.

SUPPLEMENTARY INFORMATION: Upon investigation, the Administrator determined that increasing imports of clementines did not contribute importantly to the decline in domestic producer prices of navel oranges during the November 2002-May 2003 marketing year. The leading and prime factor contributing to the price decline according to an investigation conducted for the Administrator was increased domestic production.

Dated: March 4, 2004.
A. Ellen Terpstra,
Administrator, Foreign Agricultural Service.

[FR Doc. 04-5713 Filed 3-12-04; 8:45 am]

BILLING CODE 3410-10-M